DEPARTMENT OF TRANSPORTATION

Surface Transportation Board

[STB Ex Parte No. 558 (Sub-No. 9)]

Railroad Cost of Capital—2005

AGENCY: Surface Transportation Board, DOT.

ACTION: Notice of decision instituting a proceeding to determine the railroads' 2005 cost of capital.

SUMMARY: The Board is instituting a proceeding to determine the railroad industry's cost of capital for 2005. The decision solicits comments on: (1) The railroads' 2005 current cost of debt capital; (2) the railroads' 2005 current cost of preferred stock equity capital (if any); (3) the railroads' 2005 cost of common stock equity capital; and (4) the 2005 capital structure mix of the railroad industry on a market value basis.

DATES: Notices of intent to participate are due no later than January 20, 2006. Statements of the railroads are due by March 31, 2006. Statements of other interested persons are due by April 28, 2006. Rebuttal statements by the railroads are due by May 19, 2006.

ADDRESSES: Send an original and 10 copies of statements and a copy of the statement on a disk in MS Word 2003, and an original and 1 copy of the notice of intent to participate to: Surface Transportation Board, 1925 K Street, NW., Washington, DC 20423-0001.

FOR FURTHER INFORMATION CONTACT: L. Scott Decker, (202) 565-1531. (Federal Information Relay Service (FIRS) for the hearing impaired: 1 (800) 877-8339.)

SUPPLEMENTARY INFORMATION: The Board's decision is posted on the Board's Web site, http://www.stb.dot.gov. In addition, copies of the decision may be purchased from ASAP Document Solutions by calling 202-306-4004 (assistance for the hearing impaired is available through FIRS at 1-800-877-8339), or by e-mail at asapdc@verizon.net.

We preliminarily conclude that the proposed action will not significantly affect either the quality of the human environment or the conservation of energy resources.

Authority: 49 U.S.C. 10704(a).

Decided: December 19, 2005.
By the Board, Chairman Nober, Vice Chairman Buttrey, Commissioner Mulvey.
Vernon A. Williams,
Secretary.

[FR Doc. E5-7805 Filed 12-23-05; 8:45 am]

BILLING CODE 4915-01-P